DEPARTMENT OF ENERGY

Federal Energy Regulatory Commission

[Project No. 2905-035]

Village of Enosburg Falls, Vermont; Notice Soliciting Scoping Comments

Take notice that the following hydroelectric application has been filed with the Commission and is available for public inspection.

a. Type of Application: Subsequent Minor License.

b. Project No.: 2905-035.

c. Date Filed: April 30, 2021.

d. Applicant: Village of Enosburg Falls, Vermont (Village).

e. Name of Project: Enosburg Falls Hydroelectric Project (project).

f. Location: On the Missisquoi River in Franklin County, Vermont. The project does not occupy any federal land.

g. Filed Pursuant to: Federal Power Act, 16 U.S.C. 791(a)-825(r).

h. Applicant Contact: Paul V. Nolan, Representative of Village of Enosburg Falls, 5515 North 17th Street, Arlington, VA 22205-2722; phone at (703) 534-5509; email at pvnpvndiver@gmail.com.

i. FERC Contact: John Baummer at (202) 502-6837, or john.baummer@ferc.gov.

j. Deadline for filing scoping comments: October 15, 2021.

The Commission strongly encourages electronic filing. Please file scoping comments using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Enosburg Falls Hydroelectric Project (P-2905-035).

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. The application is not ready for environmental analysis at this time.

l. The existing project consists of: (1) A 195-foot-long, 18.5-foot-high concrete gravity dam; (2) an impoundment with a surface area of 121 acres at an elevation of 386.87 feet National Geodetic Vertical Datum of 1929 (NGVD 29); (3) a steel headgate structure that includes three sluice gates; (4) an 80-foot-long steel penstock that provides flow to a 375-kilowatt (kW) semi-Kaplan turbine-generator unit located in a powerhouse (Kendall Plant); (5) an approximately 5-foot-long tailrace that discharges to the Missisquoi River from the Kendall Plant; (6) an approximately 210-foot-long headrace canal located downstream of the headgate structure; (7) an intake structure, at the downstream end of the headrace canal, equipped with a sluice gate and a trashrack; (8) a powerhouse containing a 600-kW vertical Kaplan turbine-generator unit (Village Plant); (9) an approximately 240-foot-long tailrace that discharges from the Village Plant to the Missisquoi River; and (10) appurtenant facilities. The project creates an approximately 1,400-foot-long bypassed reach of the Missisquoi River.

The Village voluntarily operates the project in a run-of-river mode. Article 401 of the current license requires the Village to: (1) Maintain a minimum flow of 293 cubic feet per second (cfs) from April 15-June 15, and 120 cfs from June 16-April 14, or inflow, whichever is less, from the Kendall Plant to the bypassed reach; and (2) maintain a year-round minimum flow of 293 cfs or inflow, whichever is less, from the Village Plant to the downstream reach of the Missisquoi River.

The Village proposes to: (1) Continue operating the project in a run-of-river mode; (2) provide a year-round minimum flow of 243 cfs, or inflow, whichever is less, from the Kendall Plant to the bypassed reach; (3) develop a recreation management plan for improving recreation at the project; (4) release 1 inch of spill over the top of the project dam crest gates to provide an aesthetic veil of flow over the dam; (5) develop an operation compliance monitoring plan for maintaining minimum flows, impoundment levels, and run-of-river operation; and (6) develop a historic properties management plan to address and mitigate project effects on historic properties.

m. In addition to publishing the full text of this document in the Federal Register, the Commission provides all interested persons an opportunity to view and/or print the contents via the internet through the Commission's Home Page (http://www.ferc.gov) using the “eLibrary” link. Enter the docket number excluding the last three digits in the docket number field to access the document. For assistance, contact FERC at FERCOnlineSupport@ferc.gov or call toll-free, (866) 208-3676 or TYY, (202) 502-8659.

n. You may also register online at https://ferconline.ferc.gov/FERCOnline.aspx to be notified via email of new filings and issuances related to this or other pending projects. For assistance, contact FERC Online Support.

o. Scoping Process.

Commission staff will prepare either an environmental assessment (EA) or an Environmental Impact Statement (EIS) that describes and evaluates the probable effects, if any, of the licensee's proposed action and alternatives. The EA or EIS will consider environmental impacts and reasonable alternatives to the proposed action. The Commission's scoping process will help determine the required level of analysis and satisfy the NEPA scoping requirements, irrespective of whether the Commission prepares an EA or an EIS. At this time, we do not anticipate holding on-site scoping meetings. Instead, we are soliciting written comments and suggestions on the preliminary list of issues and alternatives to be addressed in the NEPA document, as described in scoping document 1 (SD1), issued September 15, 2021.

Copies of the SD1 outlining the subject areas to be addressed in the NEPA document were distributed to the parties on the Commission's mailing list and the applicant's distribution list. Copies of SD1 may be viewed on the web at http://www.ferc.gov using the “eLibrary” link. Enter the docket number excluding the last three digits in the docket number field to access the document. For assistance, call 1-866-208-3676 or for TTY, (202) 502-8659.

Dated: September 15, 2021.
Kimberly D. Bose,
Secretary.

[FR Doc. 2021-20460 Filed 9-21-21; 8:45 am]

BILLING CODE 6717-01-P